CORPORATION FOR NATIONAL AND COMMUNITY SERVICE

Agency Information Collection Activities; Submission to the Office of Management and Budget for Review and Approval; Comment Request; Application Package for AmeriCorps Seniors Applications Instructions, Progress Reporting, Independent Living and Respite Surveys; Proposed Information Collection; Comment Request

AGENCY: Corporation for National and Community Service.

ACTION: Notice of information collection; request for comment.

SUMMARY: The Corporation for National and Community Service, operating as AmeriCorps, has submitted a public information collection request (ICR) entitled Application Package for AmeriCorps Seniors Applications Instructions, Progress Reporting, Independent Living and Respite Surveys for review and approval in accordance with the Paperwork Reduction Act.

DATES: Comments may be submitted, identified by the title of the information collection activity, by October 21, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Robin Corindo, Deputy Director, AmeriCorps Seniors, at (202) 489-5578 or by email to RCorindo@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 17, 2021 at Vol. 86, 32249. This comment period ended August 17, 2021. A total of thirty-three comments were received. All comments were reviewed and considered. We are especially sensitive to comments regarding the consequences caused due to the Covid-19 pandemic. We will continue to provide clarity on the use of the Independent Living Survey and how it can be best used as a resource to demonstrate grant outcomes.

Title of Collection: Application Package for AmeriCorps Seniors Applications Instructions, Progress Reporting, Independent Living and Respite Surveys.

OMB Control Number: 3045-0035. Type of Review: Renewal.

Respondents/Affected Public: Businesses and Organizations OR State, Local or Tribal Governments.

Total Estimated Number of Annual Responses: 1,250.

Total Estimated Number of Annual Burden Hours: 17,820.

Abstract: The AmeriCorps Seniors Grant Application is for use by prospective and existing sponsors of AmeriCorps Senior projects under the AmeriCorps Seniors RSVP (RSVP), AmeriCorps Seniors FGP (FGP), AmeriCorps Seniors (SCP), and AmeriCorps Seniors Senior Demonstration Program (SDP). The Project Progress Report, Project Progress Report Lite and Project Report Supplement will be used to report progress toward accomplishing work plan goals and objectives, reporting volunteer and service outputs, reporting actual outcomes related to self-nominated performance measures, meeting challenges encountered, describing significant activities, and requesting technical assistance. The Application Instructions and PPR, PPR-Lite, and PRS forms in this package conform to AmeriCorps' web-based electronic grants management system, eGrants. The SCP Independent Living Survey and SCP Respite Survey are instruments that collect information from a sample of Senior Companion clients and caregivers. The purpose of the surveys is to assess the feasibility of conducting a longitudinal, quasi-experimental evaluation of the impact of independent living and respite services on clients' social ties and perceived social support. The results of the surveys may also be used to inform the feasibility of using a similar instrument to measure client and caregiver outcomes for an evaluation of RSVP. AmeriCorps seeks to renew the current information collection. The revisions are intended to (1) provide additional clarity on existing guidance (Grant Application Instructions, Program Progress Report, and Respite and Independent Living survey) and seek additional information on populations served by AmeriCorps Seniors volunteers (Progress Report Supplement). The information collection will otherwise be used in the same manner as the existing application. AmeriCorps also seeks to continue using the current application until the revised application is approved by OMB. The current application is due to expire on 12/31/2021.

Dated: September 10, 2021.
Robin Corindo,
Deputy Director, AmeriCorps Seniors.

[FR Doc. 2021-20387 Filed 9-20-21; 8:45 am]

BILLING CODE 6050-28-P